DEPARTMENT OF COMMERCE

National Oceanic and Atmospheric Administration

Science Advisory Board; Meeting

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Wednesday, July 20, 2011, from 9:30 a.m. to 5:30 p.m. and Thursday, July 21, 2011, from 8:30 a.m. to 2:30 p.m. These times and the agenda topics described below are subject to change. Please refer to the Web page http://www.sab.noaa.gov/Meetings/meetings.html for the most up-to-date meeting agenda.

Place: On July 20, 2011 the meeting will be held at the Michigan League at the University of Michigan, 911 N. University Avenue, Ann Arbor, Michigan. On July 21, 2011 the meeting will be held at NOAA's Great Lakes Environmental Research Laboratory, 4840 S. State Street, Ann Arbor, Michigan.

Please check the SAB Web site http://www.sab.noaa.gov for confirmation of the venue and for directions.

Status: The meeting will be open to public participation with a 15 minute public comment period on July 20 at 5:15 p.m. (check Web site to confirm time). The SAB expects that public statements presented at its meetings will not be repetitive of previously submitted verbal or written statements. In general, each individual or group making a verbal presentation will be limited to a total time of five (5) minutes. Individuals or groups planning to make a verbal presentation should contact the SAB Executive Director by July 15, 2011 to schedule their presentation. Written comments should be received in the SAB Executive Director's Office by July 15, 2011 to provide sufficient time for SAB review. Written comments received by the SAB Executive Director after July 15, 2011 will be distributed to the SAB, but may not be reviewed prior to the meeting date. Seating at the meeting will be available on a first-come, first-served basis.

Matters To Be Considered: The meeting will include the following topics: (1) Report from the Joint SAB Environmental Information Services and Climate Working Groups' Climate Partnership Task Force (2)Review of the SAB Working Groups' Comments on the Working Group Concept of Operations; (3)NOAA Response to the SAB Proposal for Re-alignment of Working Groups (4) Proposal for a Satellite Working Group of the SAB; (4) Results of the External Review of the NESDIS Center for Satellite Applications and Research (STAR) and the NOAA Response; (5) NOAA Response to the Office of Science and Technology Policy Memorandum on Scientific Integrity; (6) NOAA Science Challenge Workshops; (7) SAB Role in Optimizing NOAA's Research and Development Enterprise; (8) Presentations on NOAA programs and research in the Great Lakes; and (9) Updates from SAB Working Groups.

FOR FURTHER INFORMATION CONTACT: Dr. Cynthia Decker, Executive Director, Science Advisory Board, NOAA, Rm. 11230, 1315 East-West Highway, Silver Spring, Maryland 20910. Phone: 301-734-1156, Fax: 301-713-1459, E-mail: Cynthia.Decker@noaa.gov; or visit the NOAA SAB Website at http://www.sab.noaa.gov.

Dated: June 14, 2011.
Mark E. Brown,
Chief Financial Officer/Chief Administrative Officer, Office of Oceanic and Atmospheric Research, National Oceanic and Atmospheric Administration.

[FR Doc. 2011-15106 Filed 6-16-11; 8:45 am]

BILLING CODE 3510-KD-P